DEPARTMENT OF LABOR

Employment and Training Administration

[TA-W-62,748]

Panasonic Primary Battery Corporation of America, Including On-Site Workers of Panasonic Battery Corporation of America—Headquarters Division, Columbus, GA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on March 5, 2008, applicable to workers of Panasonic Primary Battery Corporation of America, Columbus, Georgia. The notice will be published soon in the Federal Register.

At the request of the State agency, the Department reviewed the certification for workers of the subject firm. The workers are engaged in the production of alkaline batteries—sizes AA, AAA, C, D, and 9-volt.

New information shows that worker separations have occurred involving employees of Panasonic Battery Corporation of America—Headquarters Division, employed on-site at the Columbus, Georgia location of Panasonic Primary Battery Corporation of America. Workers of the Headquarters Division provided various support function services for the Columbus, Georgia location of the subject firm.

Based on these findings, the Department is amending this certification to include all workers of Panasonic Battery Corporation of America—Headquarters Division working on-site at the Columbus, Georgia location of the subject firm.

The intent of the Department's certification is to include all workers employed at Panasonic Primary Battery Corporation of America, Columbus, Georgia who were adversely affected by a shift in production of alkaline batteries to Thailand.

The amended notice applicable to TA-W-62,748 is hereby issued as follows:

All workers of Panasonic Primary Battery Corporation of America, including on-site workers from Panasonic Battery Corporation of America—Headquarters Division, Columbus, Georgia, who became totally or partially separated from employment on or after January 25, 2007, through March 5, 2010, are eligible to apply for adjustment assistance under section 223 of the Trade Act of 1974, and are also eligible to apply for alternative trade adjustment assistance under Section 246 of the Trade Act of 1974.

Signed at Washington, DC, this 18th day of March 2008.
Linda G. Poole,
Certifying Officer, Division of Trade Adjustment Assistance.

[FR Doc. E8-6117 Filed 3-25-08; 8:45 am]

BILLING CODE 4510-FN-P